DEPARTMENT OF ENERGY

Federal Energy Regulatory Commission

[Docket No. RP02-334-000]

Northern Natural Gas Company; Notice of Proposed Changes in FERC Gas Tariff

May 7, 2002.

Take notice that Northern Natural Gas Company (Northern) on May 1, 2002 tendered for filing to become part of Northern's FERC Gas Tariff, Fifth Revised Volume No. 1 the following tariff sheets to be effective June 1, 2002:

Fifth Revised Volume No. 1

Sixteenth Revised Sheet No. 54

Third Revised Sheet No. 54A

Fourteenth Revised Sheet No. 61

Fourteenth Revised Sheet No. 62

Fourteenth Revised Sheet No. 63

Fourteenth Revised Sheet No. 64

Third Revised Sheet No. 300A

Sixth Revised Sheet No. 301

The revised tariff sheets are being filed in accordance with Section 53 of Northern's Tariff. This filing establishes the fuel and unaccounted for percentages to be in effect June 1, 2002, based on actual data for the 12 month period ended March 31, 2002.

Any person desiring to be heard or to protest said filing should file a motion to intervene or a protest with the Federal Energy Regulatory Commission, 888 First Street, NE., Washington, DC 20426, in accordance with sections 385.214 or 385.211 of the Commission's rules and regulations. All such motions or protests must be filed in accordance with section 154.210 of the Commission's regulations. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Magalie R. Salas,
Secretary.

[FR Doc. 02-11862 Filed 5-10-02; 8:45 am]

BILLING CODE 6717-01-P